SECURITIES AND EXCHANGE COMMISSION

[Release No. 34-42546; File No. SR-NYSE-00-02]

Self-Regulatory Organizations; Order Granting Approval to Proposed Rule Change and Amendment No. 1 by the New York Stock Exchange, Inc. To Amend the Schedule of Continued Annual Listing Fees for Non-U.S. Companies

March 20, 2000.

On January 4, 2000, the New York Stock Exchange, Inc. (“NYSE” or “Exchange”) submitted to the Securities and Exchange Commission (“SEC” or “Commission”), pursuant to Section 19(b)(1) of the Securities Exchange Act of 1934 (“Act”) ¹ and Rule 19b-4 thereunder,² a proposed rule change to amend the schedule of continuing annual fees for non-U.S. companies. Amendment No. 1 was filed on January 27, 2000.³ The proposed rule change, as amended, was published for comment in the Federal Register on February 17, 2000.⁴ No comments were received on the proposal. This order approves the proposal, as amended.

¹ 15 U.S.C. 78s(b)(1).

² 17 CFR 240.19b-4.

³ See letter from James E. Buck, Senior Vice President and Secretary, NYSE, to Richard Strasser, Assistant Director, Division of Market Regulation, SEC, dated January 21, 2000 (“Amendment No. 1”).

⁴ Securities Exchange Act Release No. 42406 (February 8, 2000), 65 FR 8222.

The proposed rule change amends the listed company fee schedule, set forth in Paragraph 902.04 of the NYSE's Listed Company Manual (“Manual”), as it applies to continuing annual listing fees for non-U.S. companies. The current continuing annual listing fee for non-U.S. companies is equal to the greater of the fee calculated on a per share or American Depositary Receipts (“ADR”) (or similar security) basis or based on the range minimums listed in the Manual. The proposal would combine the three lowest range of shares or ADRs (up to 10 million, from 10 to 20 million, and from 20 to 50 million) and their respective fees ($16,170, $24,260, and $32,340) into one range minimum (up to 50 million) with one fee ($35,000).

The Commission finds that the proposed rule change, as amended, is consistent with the requirements of the Act and the rules and regulations thereunder applicable to a national securities exchange, and in particular, with the requirements of Section 6(b).⁵ The proposal would establish a range minimum fee for non-U.S. companies with up to 50 million shares or ADRs (or similar securities) of $35,000 per year. In light of the increased costs of providing market place services,⁶ the Commission believes that the proposal is consistent with the Section 6(b)(4) ⁷ requirements that an Exchange have rules that provide for the equitable allocation of reasonable dues, fees and other charges among its members and issuers and other persons using its facilities.⁸

⁵ 15 U.S.C. 78f(b).

⁶ According to the NYSE, the proposal is necessary because of the increased costs of providing market place services to issuers, such as research analysis. Telephone conversation between Amy Bilbija, Counsel, NYSE, and Heather Traeger, Attorney, Division of Market Regulation, SEC, on March 8, 2000.

⁷ 15 U.S.C. 78f(b)(4).

⁸ In approving this rule, the Commission has considered the proposed rule's impact on efficiency, competition, and capital information. 15 U.S.C. 78c(f).

It is therefore ordered, pursuant to Section 19(b)(2) of the Act,⁹ that the proposed rule change (SR-NYSE-00-02), as amended, is approved.

⁹ 15 U.S.C. 78b(b)(2).

For the Commission, by the Division of Market Regulation, pursuant to delegated authority.¹⁰

¹⁰ 17 CFR 200.30-3(a)(12).

Margaret H. McFarland,
Deputy Secretary.

[FR Doc. 00-7400 Filed 3-24-00; 8:45 am]

BILLING CODE 8010-01-M